DEPARTMENT OF THE INTERIOR

National Park Service

Landmarks Committee of the National Park System Advisory Board Meeting

AGENCY: National Park Service, Department of the Interior.

ACTION: Notice of meeting.

SUMMARY: Notice is hereby given in accordance with the Federal Advisory Commission Act and 36 CFR Part 65 that a meeting of the Landmarks Committee of the National Park System Advisory Board will be held beginning at 1 p.m. on October 10, 2006 and at the following location. The meeting will continue beginning at 9 a.m. on October 11.

DATES: October 10-11, 2006.

Location: The 2nd Floor Board Room of the National Trust for Historic Preservation, 1785 Massachusetts Avenue, NW., Washington, DC 20036.

FOR FURTHER INFORMATION CONTACT: Patricia Henry, National Historic Landmarks Program, National Park Service; 1849 C Street, NW. (2280); Washington, DC 20240; Telephone (202) 354-2216.

SUPPLEMENTARY INFORMATION: The purpose of the meeting of the Landmarks Committee of the National Park System Advisory Board is to evaluate nominations of historic properties in order to advise the National Park System Advisory Board of the qualifications of each property being proposed for National Historic Landmark (NHL) designation, and to make recommendations regarding the possible designation of those properties as National Historic Landmarks to the National Park System Advisory Board, at its subsequent meeting at a place and time to be determined. The Committee also makes recommendations to the National Park System Advisory Board regarding amendments to existing designations, and proposals for withdrawal of designation. The members of the National Landmarks Committee are:

Dr. Larry E. Rivers, Chair,

Dr. James M. Allan,

Dr. Cary Carson,

Ms. Mary Werner DeNadai, FAIA,

Dr. Alferdteen Brown Harrison,

Mr. E. L. Roy Hunt, J.D.,

Mr. Ronald James,

Dr. William J. Murtagh,

Dr. William D. Seale,

Dr. Jo Anne Van Tilburg.

The meeting will be open to the public. Pursuant to 36 CFR Part 65, any member of the public may file, for consideration by the National Park System Advisory Board and its Landmarks Committee, written comments concerning the National Historic Landmarks nominations, amendments to existing designations, or proposals for withdrawal of designation.

Comments should be submitted to John W. Roberts, Acting Chief, National Register of Historic Places and National Historic Landmarks Program, National Park Service; 1849 C Street, NW. (2280); Washington, DC 20240.

The National Park System Advisory Board and its Landmarks Committee may consider the following nominations:

Nominations

California

• Aline Barnsdall Complex (Hollyhock House), Los Angeles, CA

Connecticut

• Coltsville Historic District, Hartford, CT

Hawaii

• Washington Place, Honolulu, HI

Illinois

• Hegler-Carus Mansion, LaSalle, IL

Ohio

• Mariemont Historic District, Hamilton County, OH

• Spring Grove Cemetery, Cincinnati, OH

Massachusetts

• House Of The Seven Gables Historic District, Salem, MA

• Naumkeag, Stockbridge, MA

Missouri

• Field House, St. Louis, MO

Oklahoma

• Price Tower, Bartlesville, OK

Pennsylvania

• Beth Sholom Synagogue, Elkins Park, PA

South Carolina

• Fig Island Shell Rings, SC

Utah

• Central Utah Relocation Center (Topaz), Millard County, UT

Proposed Amendments to Existing Designations

• Beacon Hill Historic District, Boston, MA

August 11, 2006.
John W. Roberts,
Acting Chief, National Historic Landmarks Program; National Park Service, Washington, DC.

[FR Doc. E6-13552 Filed 8-16-06; 8:45 am]

BILLING CODE 4312-51-P